DEPARTMENT OF VETERANS AFFAIRS

[OMB Control No. 2900-0757]

Proposed Information Collection (Supportive Services for Veteran Families (SSVF) Program) Application for Supportive Services Grant)

Activity: Comment Request.

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each revised collection, and allow 60 days for public comment in response to the notice. This notice solicits comments on the information needed to provide supportive services grants to private non-profit organizations and consumer cooperatives, who will coordinate or provide supportive services to very low-income Veteran families residing in permanent housing, are homeless and scheduled to become residents of permanent housing within a specified time period.

DATES: Written comments and recommendations on the proposed collection of information should be received on or before October 28, 2013.

ADDRESSES: Submit written comments on the collection of information through Federal Docket Management System (FDMS) at www.Regulations.gov; or to Cynthia Harvey-Pryor, Veterans Health Administration (10B4), Department of Veterans Affairs, 810 Vermont Avenue NW., Washington, DC 20420; or email: cynthia.harvey-pryor@va.gov. Please refer to “OMB Control No. 2900-0757” in any correspondence. During the comment period, comments may be viewed online through the FDMS.

FOR FURTHER INFORMATION CONTACT: Cynthia Harvey-Pryor at (202) 461-5870 or fax (202) 495-5397.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles: Supportive Services for Veteran Families (SSVF) Program.

a. Application for Supportive Services Grants, VA Form 10-10072

b. Participant Satisfaction Survey, VA Form 10-10072a

c. Quarterly Grantee Performance Report, VA Form 10-10072b

d. Renewal Application, VA Form 10-10072c

e. Applicant Budget Template xls Worksheet

OMB Control Number: 2900-0757.

Type of Review: Revision of an approved collection.

Abstract: The purpose of the Supportive Services for Veteran Families (SSVF) Program is to provide supportive services grants to private non-profit organizations and consumer cooperatives who will coordinate or provide supportive services to very low-income Veteran families who are residing in permanent housing, are homeless and scheduled to become residents of permanent housing within a specified time period, or after exiting permanent housing, are seeking other housing that is responsive to such very low-income veteran family's needs and preferences.

Affected Public: Individuals or households.

Estimated Annual Burden: 3 year average burden hours, 14000.

Estimated Average Burden per Respondent: 35 hours.

Frequency of Response: One-time.

Estimated Number of Respondents: 400.

Dated: August 22, 2013.
By direction of the Secretary.
Crystal Rennie,
VA Clearance Officer, U.S. Department of Veterans Affairs.

[FR Doc. 2013-20817 Filed 8-26-13; 8:45 am]

BILLING CODE 8320-01-P